DEPARTMENT OF AGRICULTURE

Animal and Plant Health Inspection Service

9 CFR Part 95

[Docket No. APHIS-2006-0113]

Importation of Swine Hides and Skins, Bird Trophies, and Ruminant Hides and Skins

AGENCY: Animal and Plant Health Inspection Service, USDA.

ACTION: Proposed rule.

SUMMARY: We are proposing to amend the regulations governing the importation of animal byproducts to require that untanned swine hides and skins from regions with African swine fever and bird trophies from regions with exotic Newcastle disease go directly to an approved establishment upon importation into the United States. We would also set out certain requirements for the importation of untanned bovine, deer, and other ruminant hides and skins into the United States from Mexico to prevent the spread of bovine babesiosis. These proposed requirements would provide for the importation of these articles under conditions intended to prevent the introduction of African swine fever, bovine babesiosis, and exotic Newcastle disease.

DATES: We will consider all comments that we receive on or before October 3, 2006.

ADDRESSES: You may submit comments by either of the following methods:

• Federal eRulemaking Portal: Go to http://www.regulations.gov and, in the lower “Search Regulations and Federal Actions” box, select “Animal and Plant Health Inspection Service” from the agency drop-down menu, then click on “Submit.” In the Docket ID column, select APHIS-2006-0113 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0113, Regulatory Analysis and Development, PPD, APHIS, Station 3A-03.8, 4700 River Road Unit 118, Riverdale, MD 20737-1238. Please state that your comment refers to Docket No. APHIS-2006-0113.

Reading Room: You may read any comments that we receive on this docket in our reading room. The reading room is located in room 1141 of the USDA South Building, 14th Street and Independence Avenue. SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Tracye Butler, Senior Staff Veterinarian, Technical Trade Services, National Center for Import and Export, VS, APHIS, 4700 River Road Unit 39, Riverdale, MD 20737-1231; (301) 734-3277.

SUPPLEMENTARY INFORMATION:

Background

The regulations in 9 CFR parts 93, 94, 95, and 96 (referred to below as the regulations) govern the importation of certain animals, birds, poultry, meat, other animal products and byproducts, hay, and straw into the United States in order to prevent the introduction of various animal diseases, including rinderpest, foot-and-mouth disease (FMD), African swine fever (ASF), and exotic Newcastle disease (END). The regulations in § 95.5 cover the requirements for the unrestricted entry of untanned hides and skins. Section 95.6 sets out restrictions for those hides or skins that do not meet the requirements for unrestricted entry in § 95.5.

The regulations in § 95.5, in their present form, do not address the importation into the United States of swine hides and skins from regions with ASF or bird trophies from regions with END. We have allowed the entry of these articles, however, if, among other requirements, the articles are sent directly to an establishment approved by the Animal and Plant Health Inspection Service (APHIS) for the receipt and handling of restricted imported animal byproducts. These precautions are needed to protect the U.S. swine and bird populations from incursions of these diseases. Both ASF and END are contagious and fatal viral diseases. Outbreaks of the latter in California, Arizona, Nevada, and Texas in 2002 and 2003 resulted in serious economic consequences for the poultry industry in those States. An outbreak of ASF could have similar effects on the U.S. swine industry.

We have also allowed entry into the United States of deer and other ruminant hides and skins from Mexico under certain conditions, even though those conditions are not set out explicitly in the current regulations. Such hides and skins have been deemed eligible for importation into the United States from Mexico if they have been subjected to a hard drying, pickling, or lime treatment; have been frozen solid for 24 hours and accompanied by a written statement from the owner attesting to that fact; or are free from ticks and accompanied by a certificate issued by a full-time salaried veterinary officer of the Government of Mexico stating that the hides or skins have been treated with an acaricide. Bovine hides and skins from Mexico have been deemed eligible for importation under the same conditions as other Mexican ruminant hides and skins if the cattle from which the hides or skins were derived were subjected to a tickicidal dip at the Mexican slaughter facility where they were prepared. We have viewed these precautions as necessary because ruminant hides and skins from Mexico could be infested with ticks, which, if brought into the United States without the above listed treatments, could transmit bovine babesiosis (also known as splenetic or tick fever) to cattle in the United States.

In order to make these conditions of entry more transparent and ensure uniform enforcement and maximum protection for the U.S. swine, bird, and ruminant populations, we are proposing to amend the regulations in § 95.5 to provide specific conditions under which untanned swine hides and skins from regions with ASF, bird trophies from regions with END, and deer and other ruminant hides and skins from Mexico could be imported into the United States.

For greater clarity, we are also proposing to reorder the provisions of § 95.5. We would retain the provisions for imported hides and skins contained in current paragraphs (a) through (e), albeit with some modifications (which are discussed below), but would redesignate these provisions as paragraphs (a)(1) through (a)(5). New provisions pertaining to deer and other ruminant hides and skins from Mexico would be contained in new proposed paragraph (b). Proposed paragraph (c) would provide for the importation of bird trophies from END-free regions. We would also add references to bird trophies in the section heading and the introductory text, since bird trophies would be covered under these regulations for the first time.

Currently, the introductory text of § 95.5 indicates that untanned hides and skins of cattle, buffalo, sheep, goats, other ruminants, and swine that do not meet the requirements for unrestricted entry specified in paragraphs (a) through (e) of that section can only be imported if subjected to the handling prescribed in § 95.6 after arrival at the port of entry. Unfortunately, while the hard drying, pickling, and lime treatment processes specified in current paragraphs (b), (d), and (e), respectively, of § 95.5 will provide adequate protection against the transmission of FMD and rinderpest if carried out according to the regulations, these treatments may not kill the virus that causes ASF. We are proposing to amend the introductory text of § 95.5, along with the current provisions pertaining to hides and skins, to address the importation of swine hides and skins that could introduce ASF into the U.S. swine population and bird trophies that could introduce END into the avian population. Our proposed introductory text would state that untanned hides and skins and bird trophies may be imported into the United States without restriction if they meet the requirements of § 95.5 and that any untanned hides or skins or bird trophies that do not meet these requirements, including, but not limited to, swine hides and skins imported from regions with ASF and bird trophies from regions with END, must be handled at an approved establishment as set forth in § 95.6.

Current paragraph (a) of § 95.5, which would become paragraph (a)(1) under this proposed rule, states that hides or skins originating in and shipped directly from a region not declared by the Secretary of Agriculture to be infected with FMD or rinderpest may be imported without further restriction. We would amend that paragraph to provide that for untanned swine hides and skins to be imported into the United States without further restriction, they would have to come from regions that are not only free of rinderpest and FMD, but of ASF as well. With respect to ruminant hides and skins, an exception would be noted for deer or other ruminant hides or skins imported from Mexico. Such articles would be subject to the additional requirements of proposed paragraph (b) because they may contain ticks that could transmit bovine babesiosis to the U.S. cattle population.

Current paragraph (b) of § 95.5, which would become paragraph (a)(2) under this proposed rule, states that hides or skins may be imported without other restriction if found upon inspection by an inspector, or by certificate of the shipper or importer satisfactory to said inspector, to be hard dried hides or skins. We would amend this paragraph so that it would apply only to untanned ruminant hides or skins because, as noted earlier, hard drying may not kill the ASF virus.

Current paragraph (c) of § 95.5, which would become paragraph (a)(3) under this proposed rule, allows the importation, under certain conditions, of abattoir hides or skins taken from animals that are slaughtered under national government inspection in a region and in an abattoir which maintains an inspection service approved by APHIS. We are proposing that only those abattoirs that are certified as meeting U.S. Department of Agriculture (USDA) equivalency requirement under 9 CFR part 327 would satisfy the requirements of this rule.¹ The animals from which the hides or skins are taken must have been found free at the time of slaughter from anthrax, FMD, and rinderpest. We are proposing two substantive changes to this paragraph. Due to our concerns about ASF, our proposed paragraph would apply only to ruminant hides or skins. Also, because the provisions in current paragraph (c) do not address the risks posed by the importation of deer or other ruminant hides or skins from Mexico, which could be infested with ticks carrying bovine babesiosis, we would add an exception for those articles. Finally, we are proposing some minor editorial changes to the paragraph to eliminate any possible ambiguity.

¹ The USDA's Food Safety Inspection Service (FSIS) maintains an Internet site that lists certified foreign establishments under the equivalency requirements. These establishments are listed by establishment number and country. Web site: http://www.fsis.usda.gov/regulations/index-of-certified-countries/index.asp.

Current paragraph (d) of § 95.5, which would become paragraph (a)(4) under this proposed rule, states that hides or skins may be imported without other restriction if shown upon inspection by an inspector, or by certificate of the shipper or importer satisfactory to said inspector, to have been pickled in a solution of salt containing mineral acid and packed in barrels, casks, or tight cases while still wet with such solution. We are proposing to amend this paragraph so that it would apply only to ruminant hides or skins because, as noted earlier, pickling may not kill the ASF virus. In order to ensure the elimination of the rinderpest and FMD viruses, the amended paragraph would also state that the pickling solution must be determined by an inspector to have a pH of less than or equal to 5. A pH of 5 or less has been determined to inactivate viruses of concern, such as those that cause FMD and rinderpest, on ruminant hides. It is currently the requirement that APHIS inspectors use as provided in the Plant Protection and Quarantine Animal Product Manual (APM).²

² The APM provides guidance to the port inspectors regarding importation-related issues. The section on hides can be found in Table 3-7-9, ``Regulatory Action on Untanned Hides, Skins or Capes of Ruminant and of Swine from Regions of Origin Known to be Affected with FMD, and Are Pickled in a Salt solution Containing Mineral Acid.'' the APM is available on the Internet at http://www.aphis.usda.gov/ppq/manuals/port/APM Chapters.htm.

Current paragraph (e) of § 95.5, which would become paragraph (a)(5) under this proposed rule, allows the importation of hides or skins if they have been treated with lime, become dehaired, and have reached the stage of preparation for immediate manufacture into products ordinarily made from rawhide. Because lime treatment, like hard drying and pickling, may not kill the ASF virus, we would amend the paragraph so that it would apply only to untanned ruminant hides or skins.

Under proposed paragraph (b) of § 95.5, we would allow the importation of deer or other ruminant hides and skins from Mexico into the United States if they were subjected to any one of several possible treatment options, all of which we view as effective in eliminating ticks that could spread bovine babesiosis. Specifically, untanned deer or other ruminant hides and skins could be imported from Mexico without further restriction if they are: (1) Subjected to the same hard drying, pickling, or lime treatment prescribed for ruminant hides or skins in proposed paragraphs (a)(2) through (a)(4); (2) frozen solid for 24 hours and accompanied by a written statement from the owner attesting to that fact; (3) free from ticks and accompanied by a certificate issued by a full-time salaried veterinary officer of the Government of Mexico stating that they have been treated with an acaricide; or (4) abattoir bovine hides taken from cattle that were subjected to a tickicidal dip at a Mexican export facility 7 to 12 days prior to slaughter. The 7-to-12-day range parallels the tickicide dip requirement in § 93.427(b)(2)(ii) for live Mexican cattle offered for importation into the United States. Dipping ruminants within 7 to 12 days of slaughter reflects the residual effect of the tickicide and the life cycle of the female tick. The residual effect of the tickicide lasts about 2 weeks, meaning that any tick to come into contact with the hide within 2 weeks of application would die. Whereas the life cycle of a female tick takes about 2 weeks, since it must come into contact with the hide, be impregnated, engorge on the hide, and lay eggs, if a female tick were to come into contact with the hide within 2 weeks of slaughter and for some reason not die from the tickicide, the life cycle would be interrupted once the ruminant is slaughtered. Therefore, we believe that requiring the dip within 7 to 12 days of slaughter would ensure that the tickicide would still be effective at the time of slaughter and that hides taken from such bovines would be free of ticks.

Under proposed paragraph (c) of § 95.5, bird trophies from END-free regions could be imported without further restriction if they were accompanied by a certificate of origin issued by the national government of the region of export. This certification requirement would help to ensure that any bird trophy imported into the United States will have originated in and been exported from an END-free region.

Taken together, these actions would help to make conditions of entry for ruminant and swine hides and skins and bird trophies more transparent and would protect the U.S. livestock and bird populations from incursions of ASF, bovine babesiosis, and END.

Executive Order 12866 and Regulatory Flexibility Act

This proposed rule has been reviewed under Executive Order 12866. The rule has been determined to be not significant for the purposes of Executive Order 12866 and, therefore, has not been reviewed by the Office of Management and Budget.

This proposed rule would amend the regulations in § 95.5 governing the requirements for importation of untanned hides and skins. We are proposing to require that untanned swine hides and skins from regions with ASF and bird trophies from regions with END go directly to an approved establishment upon importation into the United States and be subject to the requirements under § 95.6 of the regulations. We are also proposing to require that deer and other ruminant hides and skins imported into the United States from Mexico be subjected to one of several possible treatments that we view as effective in killing ticks that could transmit bovine babesiosis.

We anticipate that the proposed rule will produce economic benefits by preventing incursions of ASF, END, and bovine babesiosis, which could negatively affect the ability of the U.S. swine, poultry, and ruminant industries to export their products to international markets. The economic effects of END have been demonstrated by the recent 2002 and 2003 outbreak of the disease in the western United States. END was diagnosed in both backyard poultry flocks and in commercial poultry in California, Nevada, Arizona, and Texas. Over the course of the outbreak, more than 18,000 premises were quarantined, and more than 3 million birds were depopulated. The eradication efforts cost taxpayers in excess of $180 million. In addition, over 30 international governments placed varying levels of import restrictions on poultry and poultry products from the United States as a result of this outbreak. These restrictions consisted primarily of bans on poultry and poultry products from the affected areas of the United States, resulting in approximately $121 million of direct total value of exports affected by these restrictions. Incursions of ASF and bovine babesiosis could cause similar serious economic damage to the U.S. swine and cattle industries. These three livestock industries were valued at more than $72 billion in 2000. Specifically, the U.S. cattle industry was valued at $67.1 billion, the swine industry at $4.3 billion, and the poultry industry at $1.2 billion (Agricultural Statistics, 2001).

U.S. imports of untanned swine hides and skins from ASF-affected regions are relatively meager (see table 1 below). The average value of such imports in 2000 and 2001, all of which came from sub-Saharan Africa, was $4,500, while the average value of all U.S. imports of untanned swine hides and skins during the same period was $980,500. There were no U.S. imports of untanned swine hides and skins from ASF-affected regions in 2002 and 2003. We can conclude, then, that the amount of untanned swine hides and skins coming from ASF-affected countries into the United States is insignificant and that the proposed requirement that these hides and skins be consigned to an approved establishment is not likely to have a significant economic effect on U.S. importers of such hides and skins.

Table 1.—Value of U.S. Imports of Untanned Swine Hides and Skins ¹
Region | 2000 | 2001 | 2002 | 2003
Sub-Saharan Africa | $3,000 | $6,000 | 0 | 0
World | 1,292,000 | 669,000 | $1,401,000 | $868,000
¹ Fresh or salted untanned swine-hides—(HS 4103900060). Import HS-10 Digit-lUSITC Commodities in Detail.
Source: FAS, U.S. Trade Internet System, Imports, FATUS. Web site: http://www.fas.usda.gov/ustrade.

U.S. imports of untanned deer hides and skins from Mexico have also been limited. As shown in table 2, the value of U.S. imports of untanned deer hides and skins from Mexico in 2001 was $2,000, accounting for approximately 0.33 percent of the U.S. total for that year. There were no untanned deer hides and skins imported from Mexico in 2000, 2002, and 2003. The average value of total U.S. imports of untanned deer hides and skins in 2000 and 2001 was $700,000, and none were imported in 2002 or 2003. Since Mexico's share of this market has been so small, we can conclude that this proposed rule is not likely to have a significant economic effect on U.S. importers of untanned deer hides and skins.

Table 2.—Value of U.S. Imports of Untanned Deer-Hides and Skins ¹
Region | 2000 | 2001 | 2002 | 2003
Mexico | 0 | $2,000 | 0 | 0
World | $805,000 | 604,000 | 0 | 0
¹ Fresh or dried or salted, but not tanned deer-skins—(HS 4103900030). Import HS-10 Digit-USITC Commodities in Detail.
Source: FAS, U.S. Trade Internet System, Imports, FATUS. Web site: http://www.fas.usda.gov/ustrade.

Other ruminant hides and skins that are currently being imported into the United States from Mexico and that would be subject to provisions of this proposed rule include those of bovines, sheep or lambs, and chamoises. The latest available data on the value of U.S. imports from Mexico of such hides and skins and the percentages of Mexico's market share for the years 1997 through 2001 are presented in tables 3 through 6.

Table 3.—Value of U.S. Imports of Untanned Bovine Hides, Whole, Raw
Region | 1997 | 1998 | 1999 | 2000 | 2001 | 5-year average
Mexico | $10,000 (0.5%) | 0 | $1,000 (0.1%) | 0 | $177,000 (15%) | 3.12%
World | 1,964,000 | $667,000 | 962,000 | $1,135,000 | 1,217,000 |
Source: United Nations (http://untrade.fas.usda.gov/untrade).

Table 4.—Value of U.S. Imports of NES1 Untanned Bovine Skins
Region | 1997 | 1998 | 1999 | 2000 | 2001 | 5-year average
Mexico | $142,000 (0.8%) | $704,000 (5%) | $372,000 (4%) | $63,000 (0.8%) | $59,000 (0.9%) | 2.3%
World | 17,733,000 | 14,974,000 | 10,123,000 | 8,319,000 | 6,768,000 |
¹ Not elsewhere specified.
Source: United Nations (http://untrade.fas.usda.gov/untrade).

Table 5.—Value of U.S. Imports of Sheep or Lamb Skins, Raw, With Wool On
Region | 1997 | 1998 | 1999 | 2000 | 2001 | 5-year average
Mexico | $486,000 (23%) | $59,000 (3.2%) | 0 | $13,000 (5.8%) | 0 | 6.4%
World | 2,116,000 | 1,828,000 | $256,000 | 226,000 | $764,000 |
Source: United Nations (http://untrade.fas.usda.gov/untrade).

Table 6.—Value of U.S. Imports of Untanned Chamois Hides
Region | 1997 | 1998 | 1999 | 2000 | 2001 | 5-year average
Mexico | $3,753,000 (27%) | $4,358,000 (29%) | $4,907,000 (34%) | $5,588,000 (38%) | $6,156,000 (48%) | 35.2%
World | 13,711,000 | 15,150,000 | 14,483,000 | 14,849,000 | 12,969,000 |
Source: United Nations (http://untrade.fas.usda.gov/untrade).

As the tables illustrate, with the exception of chamois hides (table 6), imports from Mexico account for a relatively small proportion of the total U.S. imports of these commodities. Over the 5-year period, an average of 3.12 percent of the untanned whole bovine hides, 2.3 percent of the NES untanned bovine skins, and 6.4 percent of the untanned sheep and lamb skins that were imported into the United States came from Mexico. Mexican chamois hides, however, did account for a significantly larger proportion of total imports, averaging 35.2 percent. Still, given the relatively small amounts of most of these commodities that Mexico provides and the fact that the procedures specified in this proposed rule are already being required for entry of ruminant hides and skins into the United States in most cases, it appears unlikely that the proposed rule would have a significant effect on any U.S. importers of untanned ruminant hides or skins from Mexico.

The United States Fish and Wildlife Service grants permits to individuals for the importation of bird trophies but does not require a separate permit for each trophy, whether imported as a finished product or as skin, bones, and feathers, and does not collect data on the number of mounts prepared by each permit holder. Therefore, reliable data on imported bird trophies from END-free regions are not available.

Economic Impact on Small Entities

Agencies are required to analyze the impacts of their regulations on small businesses and to use flexibility to provide regulatory relief when regulations create economic disparities between different-sized entities. Among the small entities that could be affected by this proposed rule are importers of hides and skins. According to the 2002 Economic Census, in that year there were 260 establishments in the United States which primarily engaged in the wholesale distribution of untanned hides and skins. No data were available on how many of these entities were importers. According to the criteria used by the Small Business Administration (SBA), an entity in this category (North American Industrial Classification System [NAICS] 4225159) is considered small if it employs fewer than 100 persons. In 2002, these 260 entities employed a total of 1,983 paid employees, an average of approximately 7 per entity. It is likely, therefore, that the overwhelming majority of these establishments were small. As we have already noted, imports of the commodities potentially affected by this proposed rule are relatively low, and we do not expect this rulemaking to have a significant economic impact on any U.S. entities, large or small. Moreover, any possible negative effects of this proposed rule on U.S. importers of untanned ruminant or swine hides and skins, deer or other ruminant hides and skins from Mexico, and bird trophies would be far outweighed by the benefits to other small entities by preventing outbreaks of ASF, END, and bovine babesiosis. Over 99 percent of U.S. cattle producers and more than 88 percent of U.S. swine producers have annual receipts of $750,000 or less, which is the criterion by which such firms are designated as small entities by the SBA. The majority of meat packing plants (NAICS 311612 and NAICS 311613), which could be affected by an ASF or bovine babesiosis outbreak, and poultry processors (NAICS 311615), which could be affected by an END outbreak, are also small entities, the SBA threshold for these entities being 100 or fewer employees. The latest available data show that in 1997, more than 96 percent of meat packing firms were small. These small firms accounted for approximately 40 percent of the total value of the industry's shipments. All of these small entities would benefit from the proposed rule by being protected from potential outbreaks of ASF, END, and bovine babesiosis.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. APHIS-2006-0113. Please send a copy of your comments to: (1) Docket No. APHIS-2006-0113, Regulatory Analysis and Development, PPD, APHIS, Station 3A-03.8, 4700 River Road Unit 118, Riverdale, MD 20737-1238, and (2) Clearance Officer, OCIO, USDA, room 404-W, 14th Street and Independence Avenue SW., Washington, DC 20250. A comment to OMB is best assured of having its full effect if OMB receives it within 30 days of publication of this proposed rule.

Some of the import requirements contained in this proposed rule would necessitate the use of additional certification statements in connection with the importation, from certain regions, of commodities such as untanned hides and bird trophies. In addition to meeting all other applicable APHIS provisions, certain untanned deer or other ruminant hides from Mexico would be allowed to enter the United States only if accompanied by a certificate, issued by a full-time salaried veterinary officer of the Government of Mexico, stating that the hides were treated with an acaricide to kill ticks that could carry and spread bovine babesiosis; or if accompanied by a written statement from the owner attesting to the fact that the hides were frozen solid for 24 hours. In addition to meeting all other applicable APHIS provisions, bird trophies from regions that are free of END would be eligible to enter the United States only if accompanied by a certificate of origin issued by the national government of the region of export.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 0.2 hours per response.

Respondents: Federal animal health authorities in certain regions and foreign exporters of certain animal byproducts.

Estimated annual number of respondents: 50.

Estimated annual number of responses per respondent: 4.

Estimated annual number of responses: 200.

Estimated total annual burden on respondents: 40 hours. (Due to averaging, the total annual burden hours may not equal the product of the annual number of responses multiplied by the reporting burden per response.)

Copies of this information collection can be obtained from Mrs. Celeste Sickles, APHIS' Information Collection Coordinator, at (301) 734-7477.

E-Government Act Compliance

The Animal and Plant Health Inspection Service is committed to compliance with the E-Government Act to promote the use of the Internet and other information technologies, to provide increased opportunities for citizen access to Government information and services, and for other purposes. For information pertinent to E-Government Act compliance related to this proposed rule, please contact Mrs. Celeste Sickles, APHIS' Information Collection Coordinator, at (301) 734-7477.

List of Subjects in 9 CFR Part 95

Animal feeds, Hay, Imports, Livestock, Reporting and recordkeeping requirements, Straw, Transportation.

Accordingly, we propose to amend 9 CFR part 95 as follows:

PART 95—SANITARY CONTROL OF ANIMAL BYPRODUCTS (EXCEPT CASINGS), AND HAY AND STRAW, OFFERED FOR ENTRY INTO THE UNITED STATES

1. The authority citation for part 95 would continue to read as follows:

Authority: 7 U.S.C. 8301-8317; 21 U.S.C. 136 and 136a; 31 U.S.C. 9701; 7 CFR 2.22, 2.80, and 371.4.

2. Section 95.5 would be revised to read as follows:

§ 95.5 Untanned hides and skins and bird trophies; requirements for unrestricted entry.

Untanned hides and skins and bird trophies may be imported into the United States without restriction if they meet the requirements of this section. Any untanned hides or skins or bird trophies that do not meet the requirements of this section, including, but not limited to, swine hides imported from regions where African swine fever exists and bird trophies imported from regions where exotic Newcastle disease exists, must be handled at an approved establishment as set forth in § 95.6.

(a) Untanned hides and skins. (1) Except for ruminant hides or skins from Mexico, any untanned hides or skins of ruminants from regions free of foot-and-mouth disease and rinderpest and any untanned hides or skins of swine from regions free of foot-and-mouth disease, rinderpest, and African swine fever may be imported without further restriction.

(2) Untanned ruminant hides or skins may be imported from any region without other restriction if an inspector determines, based on inspection and upon examination of a shipper or importer certificate, that they are hard dried hides or skins.

(3) Except for ruminant hides or skins from Mexico, untanned abattoir hides or skins of ruminants may be imported from any region without other restriction if the following requirements are met:

(i) The ruminants from which the hides or skins were taken have been slaughtered under national government inspection in a region ¹ and in an abattoir in which is maintained an inspection service that meets the requirements and has been approved pursuant to part 327 of this title; and

¹ Names of these regions will be furnished upon request to the Animal and Plant Health Inspection Service, Veterinary Services, National Center for Import and Export, 4700 River Road Unit 38, Riverdale, Maryland 20737-1231.

(ii) The hides or skins are accompanied by a certificate bearing the seal of the proper department of that national government and signed by an official veterinary inspector of the region in which the ruminants were slaughtered. The certificate must state that the hides or skins were taken from ruminants slaughtered in an abattoir that meets the requirements of paragraph (a)(3)(i) of this section and that the hides or skins are free from anthrax, foot-and-mouth disease, and rinderpest.

(4) Untanned ruminant hides or skins from any region may be imported without other restriction if an inspector determines, based on inspection and upon examination of a shipper or importer certificate, that they have been pickled in a solution of salt containing mineral acid and packed in barrels, casks, or tight cases while still wet with such solution. The solution must be determined by the inspector to have a pH of less than or equal to 5.

(5) Untanned ruminant hides or skins from any region may be imported without other restriction if an inspector determines, based on inspection and upon examination of a shipper or importer certificate, that they have been treated with lime in such manner and for such period as to have obviously been processed, to have become dehaired, and to have reached the stage of preparation for immediate manufacture into products ordinarily made from rawhide.

(b) Ruminant hides and skins from Mexico. Ruminant hides and skins from Mexico may enter the United States without other restriction if:

(1) They have been subjected to any one of the treatments specified in paragraphs (a)(2), (a)(3), or (a)(4) of this section; or

(2) They have been frozen solid for 24 hours and are accompanied by a written statement from the owner attesting to that fact; or

(3) They are free from ticks and are accompanied by a certificate issued by a full-time salaried veterinary officer of the Government of Mexico stating that they have been treated with an acaricide; or

(4) They are bovine hides taken from cattle that were subjected to a tickicidal dip at a Mexican export facility 7 to 12 days prior to slaughter.

(c) Bird trophies. Bird trophies from regions designated in § 94.6 of this subchapter as free of exotic Newcastle disease may be imported without further restriction if accompanied by a certificate of origin issued by the national government of the region of export.

(Approved by the Office of Management and Budget under control number 0579-0015)

Done in Washington, DC, this 31st day of July 2006.
W. Ron DeHaven,
Administrator, Animal and Plant Health Inspection Service.

[FR Doc. E6-12639 Filed 8-3-06; 8:45 am]

BILLING CODE 3410-34-P